DEPARTMENT OF TRANSPORTATION

Federal Aviation Administration

[Docket No. FAA-2003-16227]

Policy and Procedures Concerning the Use of Airport Revenue: Petition of Sarasota-Manatee Airport Authority To Allow Use of Airport Revenue for Direct Subsidy of Air Carrier Operations

Correction

In notice document 03-27753 beginning on page 62651 in the issue of Wednesday, November 5, 2003, make the following corrections:

1. On page 62652, in the first column, under the ADDRESSES heading, in the fifth line from the bottom, “ 16277” should read “ 16227”.

2. On the same page, in the third column, in the fifth line, “ City pair presently” should read “ City pair not presently”.

[FR Doc. C3-27753 Filed 11-13-03; 8:45 am]

BILLING CODE 1505-01-D